DEPARTMENT OF LABOR

Employment and Training Administration

[TA-W-42,193]

Vulcan Chemicals, Wichita, KS; Notice of Termination of Investigation

Pursuant to section 221 of the Trade Act of 1974, an investigation was initiated on September 30, 2002, in response to a petition filed by a company official on behalf of workers at Vulcan Chemicals, Wichita, Kansas.

The petitioner has requested that the petition be withdrawn. Consequently, further investigation in this case would serve no purpose, and the investigation has been terminated.

Signed in Washington, DC this 15th day of October, 2002.
Richard Church,
Certifying Officer, Division of Trade Adjustment Assistance.

[FR Doc. 02-28386 Filed 11-6-02; 8:45 am]

BILLING CODE 4510-30-P